DEPARTMENT OF TRANSPORTATION

Coast Guard

[USCG-2000-6949]

Navigation Safety Advisory Committee

AGENCY: Coast Guard, DOT.

ACTION: Notice of meetings.

SUMMARY: The Navigation Safety Advisory Council (NAVSAC) and its Committees on Navigation Equipment, Prevention Through People, High Speed Craft, and the Marine Transportation System will meet to discuss various issues relating to the safety of navigation. All meetings are open to the public.

DATES: NAVSAC's Committees on Navigation Equipment, Prevention Through People, High Speed Craft, and the Marine Transportation System will meet on Thursday, March 30, 2000, from 9:00 a.m. to 5 p.m. The full Council will meet on Friday, March 31, 2000, from 8:00 a.m. to 5:00 p.m. and on Saturday, April 1, 2000, from 8:00 a.m. to 4:00 p.m. These meetings may close early if all business is finished. Written material and requests to make oral presentations should reach the Coast Guard on or before March 24, 2000. Requests to have a copy of your material distributed to each member of the council or committee should reach the Coast Guard on or before March 20, 2000.

ADDRESSES: NAVSAC will meet at the Sheraton Four Points Hotel (soon to be “W New Orleans”), 333 Poydras Street, New Orleans, LA. Committee meetings will be held at the same location. Send written material and requests to make oral presentations to Ms. Margie G. Hegy, Commandant (G-MW), U.S. Coast Guard Headquarters, 2100 Second Street SW., Washington, DC 20593-0001. This notice is available on the Internet at http://dms.dot.gov.

FOR FURTHER INFORMATION CONTACT: Ms. Margie G. Hegy, Executive Director of NAVSAC, telephone 202-267-0415, fax 202-267-4700.

SUPPLEMENTARY INFORMATION: Notice of these meetings is given under the Federal Advisory Committee Act, 5 U.S.C. App. 2.

Agendas of Meetings

Navigation Safety Advisory Council (NAVSAC). The agenda includes the following:

(1) Report on the Ports and Waterways Safety System (PAWSS) and Ports and Waterways Safety Assessments (PAWSA).

(2) Progress report on the New Orleans Automatic Identification System (AIS) Based Vessel Traffic Services (VTS) project.

(3) Report on the future of AIS Implementation.

(4) Overview of Electronic Chart Display and Information System (ECDIS) and Electronic Chart System (ECS)—the basics.

Committee on Navigation Equipment. The agenda includes the following:

(1) RTCM Standards for ECDIS.

(2) Technology and “all-weather 24 hour ports”.

Committee on Prevention Through People (PTP). The agenda includes the following:

(1) Standardized tug commands as they apply to assist and escort tugs.

(2) Ergonomics and bridge design.

(3) Fatigue Awareness Campaign

Committee on High Speed Craft. The agenda includes the following:

(1) Review of Inland and International Rules of the Road.

(2) Review of international proposals to revise Rules to address high speed craft.

Committee on the Marine Transportation System. The agenda includes the following:

(1) Review of previous NAVSAC Resolutions.

(2) Review of Harbor Safety Committee guidance and advise on implementation.

Procedural

All meetings are open to the public. Please note that the meetings may close early if all business is finished. At the Chairs' discretion, members of the public may make oral presentations during the meetings. If you would like to make an oral presentation at a meeting, please notify the Executive Director no later than March 24, 2000. Written material for distribution at a meeting should reach the Coast Guard no later than March 24, 2000. If you would like a copy of your material distributed to each member of the committee or subcommittee in advance of a meeting, please submit 25 copies to the Executive Director no later than March 20, 2000.

Information on Services for Individuals With Disabilities

For information on facilities or services for individuals with disabilities or to request special assistance at the meetings, contact the Executive Director as soon as possible.

Dated: February 22, 2000.
Joseph J. Angelo,
Acting Assistant Commandant for Marine Safety and Environmental Protection.

[FR Doc. 00-4744 Filed 2-28-00; 8:45 am]

BILLING CODE 4910-15-P